DEPARTMENT OF JUSTICE

Antitrust Division

Notice Pursuant to the National Cooperative Research and Production Act of 1993—Corporation for National Research Initiatives: Cross Industry Working Team (“XIWT”) Project

Notice is hereby given that, on January 12, 2000, pursuant to Section 6(a) of the National Cooperative Research and Production Act of 1993, 15 U.S.C. 4301 et seq. (“the Act”), Corporation For National Research Initiatives: Cross Industry Working Team (“XIWT”) has filed written notifications simultaneously with the Attorney General and the Federal Trade Commission disclosing changes in its membership status. The notifications were filed for the purpose of extending the Act's provisions limiting the recovery of antitrust plaintiffs to actual damages under specified circumstances. Specifically, AT&T Laboratories, Florham Park, NJ; CitiGroup, New York, NY; MCI Worldcom, Reston, VA; Telecordia Technologies, Inc., Morristown, NJ; Enron Broadband Services, Inc., Portland, OR; US West, Inc., Boulder, CO; and Virtual Networks, Sunnyvale, CA have been added as parties to this venture. Also, Citicorp, New York, NY; MCI Communications, Richardson, TX; US West Communications, Boulder, CO; Inverse Network Technologies, Sunnyvale, CA AT&T Communications, Florham Park, NJ; Bellcore, Morristown, NJ; Sun Microsystems, Mountain View, CA; Texas Instruments, Dallas, TX; Ameritech, Chicago, IL; Bell Atlantic, Philadelphia, PA; Novell, Provo, UT; Southwestern Bell, St. Louis, MO; CyberCash, Reston, VA; Houston Associates, Silver Spring, MD; InterTrust Technologies, Sunnyvale, CA; Pitney Bowes, Stanford, CT; and The New York Times, New York, NY have been dropped as parties to this venture.

No other changes have been made in either the membership or planned activity of the group research project. Membership in this group research project remains open, and Corporation For National Research Initiatives: Cross Industry Working Team (“XIWT”) intends to file additional written notification disclosing all changes in membership.

On September 28, 1993, the Corporation For National Research Initiatives: Cross Industry Working Team (“XIWT”) filed its original notification pursuant to section 6(a) of the Act. The Department of Justice published a notice in the Federal Register pursuant to Section 6(b) of the Act on December 17, 1993 (58 FR 66022).

The last notification was filed with the Department on January 20, 1999. A notice was published in the Federal Register pursuant to Section 6(b) of the Act on May 20, 1999 (64 FR 27603).

Constance K. Robinson,
Director of Operations, Antitrust Division.

[FR Doc. 00-16479 Filed 6-28-00; 8:45 am]

BILLING CODE 4410-11-M